DEPARTMENT OF COMMERCE

National Oceanic and Atmospheric Administration

[I.D. 031400E]

New England Fishery Management Council; Public Meetings

AGENCY: National Marine Fisheries Service (NMFS), National Oceanic and Atmospheric Administration (NOAA), Commerce.

ACTION: Notice of public meetings.

SUMMARY: The New England Fishery Management Council (Council) is scheduling a public meeting of its Scallop Committee and Advisory Panel in April, 2000 to consider actions affecting New England fisheries in the exclusive economic zone (EEZ). Recommendations from these groups will be brought to the full Council for formal consideration and action, if appropriate.

DATES: The Council will hold these meetings between Thursday, April 6, 2000 and Friday, April 21, 2000. See SUPPLEMENTARY INFORMATION for specific dates and times.

ADDRESSES: All meetings will be held in Warwick, RI. See SUPPLEMENTARY INFORMATION for specific locations.

FOR FURTHER INFORMATION CONTACT: Paul J. Howard, Executive Director, New England Fishery Management Council; (978)465-0492.

SUPPLEMENTARY INFORMATION:

Meeting Dates and Agendas

Thursday, April 6, 2000,at 10 a.m. and Friday, April 7, 2000, at 8:30 a.m. — Scallop Oversight Committee Meeting

Location: Radisson Airport Hotel, 2081 Post Road, Warwick, RI 02886; telephone: (401) 739-3000.

The committee will develop draft management alternatives for Amendment 10 to the Atlantic Sea Scallop Fishery Management Plan (FMP). The committee will recommend these draft alternatives to the Council at its May 3-5, 2000 meeting for inclusion and analysis in the Draft Supplemental Environmental Impact Statement (DSEIS).

Friday, April 21, 2000, at 9:30 a.m. — Joint Scallop Oversight Committee and Advisory Committee Meeting

Location: Radisson Airport Hotel, 2081 Post Road, Warwick, RI 02886; telephone: (401) 739-3000.

The committee and advisors will review and finalize the draft management alternatives for Amendment 10 to the FMP. The committee will recommend these draft alternatives to the Council at its May 3-5, 2000 meeting for inclusion and analysis in the DSEIS.

Although non-emergency issues not contained in this agenda may come before this Council for discussion, in accordance with the Magnuson-Stevens Fishery Conservation and Management Act, those issues may not be the subject of formal action during this meeting. Action will be restricted to those issues specifically identified in this notice and any issues arising after publication of this notice that require emergency action under section 305(c) of the Magnuson-Stevens Act, provided the public has been notified of the Council's intent to take final action to address the emergency.

Special Accommodations

These meetings are physically accessible to people with disabilities. Requests for sign language interpretation or other auxiliary aids should be directed to Paul J. Howard (see ADDRESSES) at least 5 days prior to the meeting dates.

Dated: March 15, 2000.
Richard W. Surdi,
Acting Director, Office of Sustainable Fisheries, National Marine Fisheries Service.

[FR Doc. 00-6982 Filed 3-20-00; 8:45 am]

BILLING CODE 3510-22-F